DEPARTMENT OF HOUSING AND URBAN DEVELOPMENT

[Docket No. FR-7094-N-01]

60-Day Notice of Proposed Information Collection: Consolidated Plan, Annual Action Plan and Annual Performance Report; OMB Control No: 2506-0117

AGENCY: Office of Community Planning and Development, HUD.

ACTION: Notice.

SUMMARY: HUD is seeking approval from the Office of Management and Budget (OMB) for the information collection described below. In accordance with the Paperwork Reduction Act, HUD is requesting comment from all interested parties on the proposed collection of information. The purpose of this notice is to allow for 60 days of public comment.

DATES: Comments Due Date: May 16, 2025.

ADDRESSES: Interested persons are invited to submit comments regarding this proposal.

Written comments and recommendations for the proposed information collection can be sent within 60 days of publication of this notice to www.regulations.gov. Interested persons are also invited to submit comments regarding this proposal and comments should refer to the proposal by name and/or OMB Control Number and should be sent to: Anna Guido, Clearance Officer, REE, Department of Housing and Urban Development, 451 7th Street SW, Room 8210, Washington, DC 20410-5000.

FOR FURTHER INFORMATION CONTACT: Gloria Coates, Senior Community Planning and Development Specialist, Entitlement Communities Division, Office of Block Grant Assistance, Department of Housing and Urban Development, 451 7th Street SW, Room 7282, Washington, DC 20410-5000; email at gloria.l.coates@hud.gov or telephone (202) 402-2184. This is not a toll-free number. HUD welcomes and is prepared to receive calls from individuals who are deaf or hard of hearing, as well as individuals with speech or communication disabilities. To learn more about how to make an accessible telephone call, please visit https://www.fcc.gov/consumers/guides/telecommunications-relay-service-trs.

Copies of available documents submitted to OMB may be obtained from Ms. Coates.

SUPPLEMENTARY INFORMATION: This notice informs the public that HUD is seeking approval from OMB for the information collection described in Section A.

A. Overview of Information Collection

Title of Information Collection: Consolidated Plan, Annual Action Plan and Annual Performance Report.

OMB Approval Number: 2506-0117.

Type of Request: Extension.

Form Number: N/A.

Description of the need for the information and proposed use: The Department's collection of this information is in compliance with statutory provisions of the Cranston Gonzalez National Affordable Housing Act of 1990 that requires participating jurisdictions to submit a Comprehensive Housing Affordability Strategy (Section 105(b)); the 1974 Housing and Community Development Act, as amended, that requires states and localities to submit a Community Development Plan (Section 104(b)(4) and Section 104(m)); and statutory provisions of these Acts that requires states and localities to submit applications and reports for these formula grant programs. The information is needed to provide HUD with preliminary assessment as to the statutory and regulatory eligibility of proposed grantee projects for informing citizens of intended uses of program funds.

Members of the Affected Public: States and local governments participating in the Community Development Block Grant Program (CDBG), the Home Investment Partnership Program (HOME), the Emergency Solutions Grants Program (ESG), the Housing Opportunities for Persons with AIDS/HIV Program (HOPWA) or the Housing Trust Fund (HTF).

Estimated Number of Respondents: 1,197 localities and 50 states.

Estimated Number of Responses: Consolidated Plan and Performance Reports.

Estimated Number of Responses: 1.

Consolidated Plan & Performance Reports: 2, 474 localities, 100 states.*

Average Hours per Response: 305 (localities), 741 (states).

Total Estimated Burdens: 414,335.

* Includes combined Consolidated Plan and Annual Action Plan and separate performance report.

Information collection | Number of respondents | Frequency of response | Responses per annum | Burden hour per response | Annual burden hours | Hourly cost per response | Annual cost
Consolidated Plan & Performance Reports | $1,237.00 50.00 | 1 1 | $1,237.00 50.00 | 305 741 | $377,285 37,050 | $47.53 47.53 | $17,932,356 1,760,986
Localities
States
* Total number of respondents of 1,294 = sum of localities (1,237) and states (50). Total localities of 1,237 includes 1,237 entitlements + 3 non-entitlements (Hawaii, Kauai, Maui) and four Insular Areas (Guam, Northern Mariana Islands, American Samoa, and the U.S. Virgin Islands).
** Estimates assume a blended hourly rate that is equivalent to a GS-12, Step 1, Federal Government Employee.

B. Solicitation of Public of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond; including through the use of appropriate automated collection techniques or other forms of information technology, e.g., permitting electronic submission of responses.

HUD encourages interested parties to submit comments in response to these questions.

C. Authority

Section 3507 of the Paperwork Reduction Act of 1995, 44 U.S.C. chapter 35.

David C. Woll, Jr.,
Principal Deputy Assistant Secretary for Community Planning and Development.

[FR Doc. 2025-04274 Filed 3-14-25; 8:45 am]

BILLING CODE 4210-67-P